SECURITIES AND EXCHANGE COMMISSION

[Release Nos. 33-9352; 34-67659; File No. 265-27]

Advisory Committee on Small and Emerging Companies; Meeting

AGENCY: Securities and Exchange Commission.

ACTION: Notice.

SUMMARY: The Securities and Exchange Commission Advisory Committee on Small and Emerging Companies is providing notice that it will hold a public meeting on Friday, September 7, 2012, in the Commission's San Francisco Regional Office, 44 Montgomery Street, Suite 2800, San Francisco, California. The meeting will begin at 9 a.m. (PDT) and will be open to the public. Pre-registration is required (see below for information on pre-registration). This meeting will not be webcast on the Commission's Web site. Members of the public may also listen to the meeting by telephone. The information for the conference call is set forth below.

• Dial: 877-732-6722 (U.S./Canada Toll-Free) or 202-551-5000

• Meeting ID: 1535

The agenda for the meeting includes discussions of market structure issues and their impact on initial public offerings and other matters relating to rules and regulations affecting small and emerging companies under the federal securities laws. The public is invited to submit written statements to the Committee.

DATES: The public meeting will be held Friday, September 7, 2012. Written statements should be received on or before September 5, 2012.

ADDRESSES: The meeting will be held in the Commission's San Francisco Regional Office, 44 Montgomery Street, Suite 2800, San Francisco, California. Written statements may be submitted by any of the following methods:

Electronic Statements

• Use the Commission's Internet submission form (http://www.sec.gov/info/smallbus/acsec.shtml);

or

• Send an email message to rule-comments@sec.gov. Please include File Number 265-27 on the subject line; or

Paper Statements

• Send paper statements in triplicate to Elizabeth M. Murphy, Federal Advisory Committee Management Officer, Securities and Exchange Commission, 100 F Street NE., Washington, DC 20549-1090.

All submissions should refer to File No. 265-27. This file number should be included on the subject line if email is used. To help us process and review your statement more efficiently, please use only one method. The Commission will post all statements on the Advisory Committee's Web site (http://www.sec.gov./info/smallbus/acsec.shtml).

Statements also will be available for Web site viewing and printing in the Commission's Public Reference Room, 100 F Street NE., Room 1580, Washington, DC 20549, on official business days between the hours of 10 a.m. and 3 p.m. All statements received will be posted without change; we do not edit personal identifying information from submissions. You should submit only information that you wish to make available publicly.

FOR FURTHER INFORMATION CONTACT: Johanna V. Losert, Special Counsel, at (202) 551-3460, Office of Small Business Policy, Division of Corporation Finance, Securities and Exchange Commission, 100 F Street NE., Washington, DC 20549-3628.

SUPPLEMENTARY INFORMATION: All members of the public who wish to attend must register in advance of the meeting by September 5, 2012. To register by email, send an email to SmallBusiness@sec.gov with “Register for Advisory Committee Meeting” in the subject line. Please provide your name, organization, and telephone number.

To register by phone, leave a voice message at (202) 551-3460 indicating that you are interested in attending the meeting with your name, organization, and telephone number. All attendees will be required to sign in and be processed through security at the visitors desk. Please bring photo identification and allow extra time before the start of the meeting. The meeting site is accessible to individuals with disabilities. Individuals who require special accommodation in order to attend the meeting should notify Johanna V. Losert, using the contact information provided above, no later than September 5, 2012.

In accordance with Section 10(a) of the Federal Advisory Committee Act, 5 U.S.C.—App. 1, and the regulations thereunder, Meredith B. Cross, Designated Federal Officer of the Committee, has ordered publication of this notice.

Dated: August 15, 2012.
Elizabeth M. Murphy,
Committee Management Officer.

[FR Doc. 2012-20399 Filed 8-17-12; 8:45 am]

BILLING CODE 8011-01-P